DEPARTMENT OF DEFENSE

GENERAL SERVICES ADMINISTRATION

NATIONAL AERONAUTICS AND SPACE ADMINISTRATION

Federal Acquisition Regulation; 2005 FAR Reissue Posted to FAR Website for Download and Use

AGENCIES: Department of Defense (DoD), General Services Administration (GSA), and National Aeronautics and Space Administration (NASA).

ACTION: Notice.

SUMMARY: This notice advises users that the 2005 Federal Acquisition Regulation (FAR) Reissue will be available for downloading and use on March 18, 2005, at http://www.acqnet.gov/far. Periodically, the FAR is reissued because of administrative necessity, i.e., headers and change bars are removed. A FAR reissue does not revise the FAR language; however, the flow of the context changes. Therefore, users are required to refer to this latest version (current through FAC 2001-27). The FAR is available in HTML and PDF formats. Users intending to print the FAR can refer to the downloadable, print-only version in PDF.

DATES: The FAR Reissue will be available on the website, http://www.acqnet.gov/far, on March 18, 2005.

FOR FURTHER INFORMATION CONTACT: The FAR Secretariat, Room 4035, GS Building, Washington, DC, 20405, at (202) 501-4755.

SUPPLEMENTARY INFORMATION: In addition to providing free access to the FAR in HTML and PDF formats, the GSA FAR Website also provides electronic copies of the Federal Acquisition Circulars, Federal Register documents pertaining to final, interim, and proposed rules, and public comments.

Dated: March 7, 2005.
Ralph De Stefano,
Director, Regulatory and Federal Assistance Division.

[FR Doc. 05-4697 Filed 3-9-05; 8:45 am]

BILLING CODE 6820-EP-S